DEPARTMENT OF THE INTERIOR

Bureau of Land Management

[LLID9570000.LL14200000.BJ0000]

Idaho: Notice of Filing of Decision Document

AGENCY: Bureau of Land Management, Interior.

ACTION: Notice of Filing of decision document.

SUMMARY: The Bureau of Land Management (BLM) has signed a report titled “Grays Lake Administrative Navigability Determination and Omitted Lands and Avulsions Decisions” dated August 15, 2011, in the BLM Idaho State Office. This report contains two survey decisions related to Grays Lake. This decision document will be considered filed for the purposes of survey decisions contained therein on December 19, 2011.

DATES: Protests of the survey decisions must be filed before December 19, 2011 to be considered.

ADDRESSES: Protests of the survey decisions should be sent to Branch of Cadastral Survey, Bureau of Land Management, 1387 South Vinnell Way, Boise, Idaho, 83709-1657.

FOR FURTHER INFORMATION CONTACT: Stanley G. French, Chief Cadastral Surveyor for Idaho, Branch of Cadastral Survey, Bureau of Land Management, 1387 South Vinnell Way, Boise, Idaho, 83709-1657, telephone (208) 373-3980. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: The above-referenced report contains two summary decisions, a finding of no omitted lands in the bed of Grays Lake and no in-lake avulsion. In addition to those decisions, the report also presents an administrative opinion that the feature known as Grays Lake is a non-navigable body of water. The report was prepared at the request of the U.S. Fish and Wildlife Service, Pacific Region, 911 NE 11th Avenue, Portland, Oregon 97232, and the Bureau of Indian Affairs, Northwest Regional Office, 911 NE 11th Avenue, Portland, Oregon 97232. Grays Lake is found in:

Boise Meridian, Idaho

T. 3 S., R. 43 E.

T. 4 S., R. 42 E.

T. 4 S., R. 43 E.

T. 5 S., R. 42 E.

T. 5 S., R. 43 E.

The report has three signed originals. One each was sent to the U.S. Fish and Wildlife Pacific Regional Office and the Bureau of Indian Affairs Regional Office, both in Portland, Oregon. The final report is retained by the BLM Idaho State Office in Boise, Idaho. All copies of the report were signed on August 15, 2011, the same date as the document. The BLM copy will be retained in the file for Group File No. 1355 and is available to the public. It is also available online at the following link: http://www.blm.gov/id/st/en/prog/cadastral_survey/field_section/Grays-Lk-determination.html.

If the BLM receives a protest of the avulsion and/or the omitted lands decisions prior to the official filing, the agency will stay filing pending consideration of the protest. The BLM copy will not be officially filed until the day after the protest acceptance period expires, or until all protests have been dismissed or resolved and they have become final, including decisions or appeals.

Stanley G. French,
Chief Cadastral Surveyor for Idaho.

[FR Doc. 2011-29739 Filed 11-16-11; 8:45 am]

BILLING CODE 4310-GG-P